DEPARTMENT OF LABOR

Employment and Training Administration

[TA-W-64,505]

SB Acquisition, LLC, DBA Saunders Brothers, Including On-Site Leased Workers From Manpower Fryeburg, ME; Notice of Affirmative Determination Regarding Application for Reconsideration

By application dated January 29, 2009, the petitioner requested administrative reconsideration of the negative determination regarding workers' eligibility to apply for Trade Adjustment Assistance (TAA) and Alternative Trade Adjustment Assistance (ATAA) applicable to workers and former workers of the subject firm. The determination was issued on January 2, 2009. The Notice of Determination was published in the Federal Register on January 26, 2009 (74 FR 4464).

The initial investigation resulted in a negative determination based on the finding that sales and production at the subject firm increased during the period of January through November 2008, when compared to the same period in 2007.

In the request for reconsideration, the petitioner provided additional information indicating that sales and production at the subject facility declined during the relevant period and that the subject firm imported products like or directly competitive with the products manufactured at the subject firm.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 23rd day of February 2009.
Elliott S. Kushner,
Certifying Officer, Division of Trade Adjustment Assistance.

[FR Doc. E9-5045 Filed 3-9-09; 8:45 am]

BILLING CODE 4510-FN-P